DEPARTMENT OF THE INTERIOR

Fish and Wildlife Service

Lake Woodruff National Wildlife Refuge

AGENCY: Fish and Wildlife Service, Interior.

ACTION: Notice of intent to prepare a Comprehensive Conservation Plan and Environmental Assessment for Lake Woodruff National Wildlife Refuge in Volusia and Lake Counties, Florida.

SUMMARY: The Fish and Wildlife Service, Southeast Region, intends to gather information necessary to prepare a comprehensive conservation plan and environmental assessment pursuant to the National Environmental Policy Act of 1969 and its implementing regulations.

The National Wildlife Refuge System Administration Act of 1966, as amended by the National Wildlife Refuge System Improvement Act of 1997, requires the Service to develop a comprehensive conservation plan for each national wildlife refuge. The purpose in developing a comprehensive conservation plan is to provide refuge mangers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: To ensure consideration, written comments must be received no later than August 25, 2006.

ADDRESSES: Address comments, questions, and requests for further information to: Cheri Ehrhardt, Refuge Planner, Lake Woodruff National Wildlife Refuge CCP, P.O. Box 6504, Titusville, Florida 32782-6504; Telephone: 321/861-2368; Fax: 321/861-1276; E-mail: LakeWoodruffCCP@fws.gov. You may find additional information concerning the refuge at its Internet site: http://www.fws.gov/lakewoodruff/.

SUPPLEMENTARY INFORMATION: The comprehensive conservation planning process will consider many elements, including wildlife and habitat management, public recreational activities, and cultural resource protection. Public input to the planning process is essential. A public scoping meeting will be held. Please contact the refuge planner in the ADDRESSES section regarding the public scoping meeting. All comments received from individuals become part of the official public record. Requests for such comments will be handled in accordance with the Freedom of Information Act and the Council on Environmental Quality's NEPA regulations [40 CFR 1506.6(f)].

Congress established Lake Woodruff National Wildlife Refuge in 1964 as a migratory bird refuge. It comprises 21,574 acres of freshwater marshes, swamps, creeks, hammocks, and upland forests. More than 1,000 acres of the refuge are designated as Wilderness. Management of the refuge focuses on water-level manipulation for waterfowl and wading birds, prescribed fire, noxious weed control, deer and feral hog management, and partnerships.

Authority: This notice is published under the authority of the National Wildlife Refuge System Improvement Act of 1997, Public Law 105-57.

Dated: June 14, 2006.
Cynthia K. Dohner,
Acting Regional Director.

[FR Doc. 06-6475 Filed 7-25-06; 8:45 am]

BILLING CODE 4310-55-M